DEPARTMENT OF THE INTERIOR

National Park Service

[NPS-WASO-NRNHL-DTS#-31583; PPWOCRADI0, PCU00RP14.R50000]

National Register of Historic Places; Notification of Pending Nominations and Related Actions

AGENCY: National Park Service, Interior.

ACTION: Notice.

SUMMARY: The National Park Service is soliciting electronic comments on the significance of properties nominated before February 27, 2021, for listing or related actions in the National Register of Historic Places.

DATES: Comments should be submitted electronically by April 1, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before February 27, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Alachua County

Old Mount Carmel Baptist Church, 429 NW 4th St., Gainesville, SG100006345

University Evangelical Lutheran Church Complex, 1826 West University Ave., Gainesville, SG100006346

Duval County, Union Terminal Company Warehouse, 700 East Union St., Jacksonville, SG100006347

Jacksonville Jewish Center, 205 West 3rd St., Jacksonville, SG100006358

GEORGIA

Fulton County

Adams, Charles R., Park (Boundary Increase), 1690 Delowe Dr., Atlanta, BC100006374

HAWAII

Hawaii County

Honoka'a Hongwanji Buddhist Mission, (Honoka'a Town, Hawaii MPS), 45-516 Lehua St. and on Honoka'a-Waipi'o Highway .47 mi. west of jct. with Lehua St. Honoka'a, MP100006348

Souza, John Dias, Property (Honoka'a Town, Hawaii MPS), 45-3599 Māmane Street, Honoka'a, MP100006349

Kojiro Yamato Store and Garage (Honoka'a Town, Hawaii MPS), 45-3468 Māmane St., Honoka'a, MP100006354

Honolulu County

Waimalu Shopping Center, 98-020 Kamehameha Hwy., Waimalu, SG100006350

East West Center Complex, 1601 East West Rd., Honolulu, SG100006355

LOUISIANA

East Baton Rouge Parish

Landry, Kenneth C. and Carolyn B., House, 1985 Longwood Dr., Baton Rouge, SG100006376

MICHIGAN

Ingham County

Bailey Buildings, 513 West Ionia St., Lansing, SG100006364

Presque Isle County

Camp Black Lake, 7142 Ocqueoc Lake Rd., Ocqueoc Township, SG100006365

MINNESOTA

Carlton County

Cloquet High School, 509 Carlton Ave., Cloquet, SG100006356

Le Sueur County

Montgomery Commercial Historic District, Centering on 1st St. between Vine Ave. East and West, and Oak Ave. East and West, roughly bounded by 2nd St. West and UPRR tracks. Montgomery, SG100006360

Ramsey County

St. Paul Casket Company, 1222 West University Ave., St. Paul, SG100006372

Winona County

Rollingstone Village Hall, 98 Main St., Rollingstone, SG100006357

MONTANA

Lewis and Clark County

F.M. Mack General Store, 210 Main St., Augusta, SG100006367

PENNSYLVANIA

Allegheny County

International Harvester Company of America: Pittsburgh Branch House, 810 West North Ave., Pittsburgh, SG100006371

Beaver County

United Steelworkers Local #1211 Union Hall, 501 Franklin Ave., Aliquippa, SG100006368

Philadelphia County

Overbrook Gardens Apartments, 900-904 North 63rd St., Philadelphia, SG100006369

West Philadelphia Passenger Railway Company Carhouse, 4100 Haverford Ave., Philadelphia, SG100006370

UTAH

Salt Lake County

Beall, Burtch W., Jr., and Susan, House, 4644 South Brookwood Cir., Millcreek, SG100006366

A request to move has been received for the following resources:

LOUISIANA

Caddo Parish

Caddo Parish Confederate Monument, 501 Texas Ave., Shreveport, MV13001124

Additional documentation has been received for the following resources:

FLORIDA

Santa Rosa County

Milton Historic District (Additional Documentation), US 90 at Blackwater River bounded by Berryhill, Willing, Hill, Canal, Margaret, & Susan Sts., Milton, AD87001944

GEORGIA

Fulton County

Adams, Charles R., Park (Additional Documentation), 1690 Delowe Dr., Atlanta, AD12001167

SOUTH DAKOTA

Hutchinson County

Deckert, Ludwig, House (Additional Documentation), (German-Russian Folk Architecture TR), 880 South Cedar St., Freeman, AD84003309

Nominations submitted by Federal Preservation Officer:

The State Historic Preservation Officer reviewed the following nomination and responded to the Federal Preservation Officer within 45 days of receipt of the nominations and supports listing the property in the National Register of Historic Places.

MICHIGAN

Keweenaw County

Ojibway Fire Tower (Isle Royale National Park Fire Towers MPS), Jct. of Greenstone Ridge and Mt. Ojibway Trails, Isle Royal NP, Houghton vicinity, MP100006363

Authority: Section 60.13 of 36 CFR part 60.

Dated: March 2, 2021.
Sherry Frear,
Chief, National Register of Historic Places/National Historic Landmarks Program.

[FR Doc. 2021-05484 Filed 3-16-21; 8:45 am]

BILLING CODE 4312-52-P